DEPARTMENT OF COMMERCE

International Trade Administration

A-570-888

Floor-Standing, Metal-Top Ironing Tables and Parts Thereof from the People's Republic of China: Extension of Time Limit for Preliminary Results of the First Administrative Review

AGENCY: Import Administration, International Trade Administration, Department of Commerce.

EFFECTIVE DATE: July 27, 2006.

FOR FURTHER INFORMATION CONTACT: Kristina Boughton, or Bobby Wong, AD/CVD Operations, Office 9, Import Administration, International Trade Administration, US Department of Commerce, 14th Street and Constitution Avenue, N.W., Washington, DC 20230; telephone: (202) 482-8173, or (202) 482-0409, respectively.

SUPPLEMENTARY INFORMATION:

Background

On August 6, 2004, the Department of Commerce (the Department) published in the Federal Register an antidumping duty order regarding floor standing, metal-top ironing tables and parts thereof from the People's Republic of China (PRC). See Notice of Amended Final Determination of Sales at Less Than Fair Value and Antidumping Duty Order: Floor-Standing, Metal-Top Ironing Tables and Certain Parts Thereof From the People's Republic of China, 69 FR 47868 (August 6, 2004). The Department received timely requests from Since Hardware (Guangzhou) Co., Ltd. (Since Hardware), Shunde Yongjian Housewares Co., Ltd. (Shunde Yongjiang), and Forever Holdings Ltd. (Forever Holdings), in accordance with 19 CFR 351.213(b)(2), for an administrative review of the antidumping duty order on ironing tables and parts thereof from the PRC, which has an August annual anniversary month. On September 20, 2005, the Department initiated a review with respect to Since Hardware, Shunde Yongjiang, and Forever Holdings. See Initiation of Antidumping and Countervailing Duty Administrative Reviews and Request for Revocation in Part, 70 FR 56631 (September 28, 2005).

On April 19, 2006, in accordance with 751(a)(3)(A) of the Tariff Act of 1930, as amended (the Act), and 19 CFR 351.213(h)(2), the Department extended the deadline for the preliminary results of review until August 4, 2006. See Floor-Standing, Metal-Top Ironing Tables and Parts Thereof from the People's Republic of China: Extension of Time Limit for Preliminary Results of the First Administrative Review, 71 FR 20076 (April 19, 2006).

Additional Extension of Time Limits for the Preliminary Results

Section 751(a)(3)(A) of the Act and 19 CFR 351.213(h)(1) require the Department to issue the preliminary results of an administrative review within 245 days after the last day of the anniversary month of the order or suspension agreement for which the administrative review was requested, and the final results of the review within 120 days after the date on which the notice of the preliminary results was published in the Federal Register. However, if the Department determines that it is not practicable to complete the review within this time period, section 751(a)(3)(A) of the Act and 19 CFR 351.213(h)(2) allow the Department to extend the 245-day period to 365 days and the 120-day period to 180 days.

Pursuant to section 751(a)(3)(A) of the Act and 19 CFR 351.213(h), we determine that it is not practicable to complete this administrative review within the statutory time limit of 245 days. The Department requires additional time to analyze outstanding supplemental questionnaire responses for both Since Hardware and Shunde Yongjian regarding their factors of production and time to issue additional supplemental questionnaires, if necessary. Therefore, in accordance with section 751(a)(3)(A) of the Act and 19 CFR 351.213(h)(2), the Department is fully extending the time limit for the completion of these preliminary results by an additional 27 days to August 31, 2006. The final results, in turn, will be due 120 days after the date of issuance of the preliminary results, unless extended.

This notice is issued and published in accordance with section 751(a)(3)(A) of the Act.

Dated: July 18, 2006.
Stephen J. Claeys,
Deputy Assistant Secretary for Import Administration.

[FR Doc. E6-11970 Filed 7-26-06; 8:45 am]

BILLING CODE 3510-DS-S